DEPARTMENT OF TRANSPORTATION

Federal Aviation Administration

Public Notice for Waiver of Aeronautical Land-Use Assurance Carl R. Keller Field Airport, Port Clinton, OH

AGENCY: Federal Aviation Administration (FAA), DOT.

ACTION: Notice of intent of waiver with respect to land.

SUMMARY: The FAA is considering a proposal to change a portion of the airport (a parcel of land in the Northeast Quarter of section 2, T6N, R17E, Portage Township, Ottawa County, Ohio, current use and present condition is vacant grassland) from aeronautical use to non-aeronautical. There is no impacts to the airport by allowing the airport to lease the property. The land was acquired under FAA Project Number 3-39-0068-1599. In accordance with section 47107(h) of Title 49, United States Code, this notice is required to be published in the Federal Register 30 days before modifying the land-use assurance that requires the property to be used for an aeronautical purpose. The proposed land will be leased and a visitors' bureau will be built. The visitors' bureau will be a marketing tool and increase airport recognition. The lease payments that the visitors' bureau will make to the Erie Ottawa Airport Authority will increase income for airport improvements and operation expenses at Carl R. Keller Field Airport. The additional benefit of leasing this land is that the visitors' bureau will be installing the first portion of the access road for this area of the airport property.

DATES: Comments must be received on or before November 27, 2000.

FOR FURTHER INFORMATION CONTACT: Ms. Arlene B. Draper, Acting Assistant Manager, Detroit Airports District Office, Willow Run Airport East, 8820 Beck Road, Belleville, MI, 48111. Telephone number 734-487-7282/FAX number 734-487-7299. Documents reflecting this FAA action may be reviewed at this same location on at Carl R. Keller Field Airport, Port Clinton, Ohio.

SUPPLEMENTARY INFORMATION: This notice announces that the FAA intends to authorize the lease of the subject airport property at Carl R. Keller Field, Port Clinton, Ohio. Approval does not constitute a commitment by the FAA to financially assist in the lease of the subject airport property nor a determination that all measures covered by the programs are eligible for Airport Improvement Program funding from the FAA. The disposition of proceeds from the lease of the airport property will be in accordance FAA's Policy and Procedures Concerning the Use of Airport Revenue, published in the Federal Register on February 16, 1999.

James M. Opatrny,
Acting Manager, Detroit Airports District Office FAA, Great Lakes Region.

[FR Doc. 00-27449 Filed 10-25-00; 8:45 am]

BILLING CODE 4910-13-M